DEPARTMENT OF THE INTERIOR

Fish and Wildlife Service

50 CFR Part 17

RIN 1018-AH09

Endangered and Threatened Wildlife and Plants; Designating Critical Habitat for Plant Species From the Northwestern Hawaiian Islands, HI

AGENCY: Fish and Wildlife Service, Interior.

ACTION: Proposed rule; extension of comment period and notice of availability of draft economic analysis.

SUMMARY: We, the U.S. Fish and Wildlife Service, announce the availability of the draft economic analysis for the proposed designations of critical habitat for plant species from the Northwestern Hawaiian Islands, Hawaii. In an earlier Federal Register notice published August 26, 2002 (67 FR 54766) we reopened the comment period for the proposed designations or non-designations of critical habitat for these plants. We are now providing notice of extending the comment period to allow peer reviewers and all interested parties to comment simultaneously on the proposed rule and the associated draft economic analysis. Comments previously submitted need not be resubmitted as they will be incorporated into the public record as part of this extended comment period and will be fully considered in preparation of the final rule.

DATES: We will accept public comments until October 15, 2002.

ADDRESSES: Written comments and information should be submitted to Field Supervisor, U.S. Fish and Wildlife Service, Pacific Islands Office, 300 Ala Moana Blvd., P.O. Box 50088, Honolulu, HI 96850-0001. For further instructions on commenting, refer to Public Comments Solicited section of this notice.

FOR FURTHER INFORMATION CONTACT: Paul Henson, Field Supervisor, Pacific Islands Office, at the above address (telephone: 808/541-3441; facsimile: 808/541-3470).

SUPPLEMENTARY INFORMATION:

Background

Six plant species reported from the Northwestern Hawaiian Islands (Nihoa Island, Necker Island, French Frigate Shoals, Gardner Pinnacles, Maro Reef, Laysan Island, Lisianski Island, Pearl and Hermes Atoll, Midway Atoll, and Kure Atoll) were listed as endangered under the Endangered Species Act of 1973, as amended (Act), between 1994 and 1996 (59 FR 56333, 61 FR 43178, 61 FR 53108). Amaranthus brownii, Cenchrus agrimonioides var. laysanensis, Mariscus pennatiformis ssp. bryanii, Pritchardia remota, and Schiedea verticillata are endemic to the Northwestern Hawaiian Islands, while Sesbania tomentosa is reported from one or more other islands, as well as the Northwestern Hawaiian Islands.

In previously published proposals (65 FR 66808, 65 FR 79192, 67 FR 3940, 67 FR 9806) we proposed that critical habitat was prudent for Cenchrus agrimonioides, Mariscus pennatiformis, and Sesbania tomentosa. In a May 14, 2002, proposal (67 FR 34522), we made no change to these proposed prudency determinations, and we proposed that critical habitat designation was prudent for Amaranthus brownii, Pritchardia remota, and Schiedea verticillata (for which proposed prudency determinations had not been made previously) because the potential benefits of designating critical habitat essential for the conservation of these species outweigh the risks that may result from human activity because of critical habitat designation.

In the May 14, 2002, proposal, we proposed designation of critical habitat for five (Amaranthus brownii, Mariscus pennatiformis, Pritchardia remota, Schiedea verticillata, and Sesbania tomentosa) of the six species reported from the Northwestern Hawaiian Islands. Critical habitat is not proposed for Cenchrus agrimonioides var. laysanensis in the Northwestern Hawaiian Islands because it has not been seen in the wild for over 20 years and no viable genetic material of this variety is known to exist.

We propose critical habitat designations for five species on three islands (Nihoa, Necker, and Laysan) totaling approximately 498 hectares (ha) (1,232 acres (ac)).

Critical habitat receives protection from destruction or adverse modification through required consultation under section 7 of the Act (16 U.S.C. 1531 et seq.) with regard to actions carried out, funded, or authorized by a Federal agency. Section 4(b)(2) of the Act requires that the Secretary shall designate or revise critical habitat based upon the best scientific and commercial data available, and after taking into consideration the economic impact of specifying any particular area as critical habitat. We have prepared a draft economic analysis of the proposed critical habitat designation. The draft economic analysis is available on the Internet and from the mailing address in the Public Comments Solicited section below.

The public comment period for the May 14, 2002, proposal originally closed on July 15, 2002. On August 26, 2002, we published a Federal Register notice (67 FR 54766) of the reopening of the comment period for the proposed designations and non-designations of critical habitat for plant species on the Northwestern Hawaiian Islands, as well as for the proposed designations and non-designations of critical habitat for plant species on the islands of Kauai, Niihau, Molokai, Maui, Kahoolawe, Hawaii, and Oahu; and we announced that the comment period would close on September 30, 2002. We are now announcing the availability of the draft economic analysis and the extension of the comment period for the proposed designations and non-designations of critical habitat for plant species on the Northwestern Hawaiian Islands. We will accept public comments on the proposal and the associated draft economic analysis for the Northwestern Hawaiian Islands until October 15, 2002. The extension of the comment period gives all interested parties the opportunity to comment on the proposal and the associated draft economic analysis for the Northwestern Hawaiian Islands. Comments already submitted on the proposed designations and non-designations of critical habitat for plant species from the Northwestern Hawaiian Islands need not be resubmitted as they will be fully considered in the final determinations.

Public Comments Solicited

We will accept written comments and information during this re-opened comment period. If you wish to comment, you may submit your comments and materials concerning this proposal by any of several methods:

(1) You may submit written comments and information to the Field Supervisor, U.S. Fish and Wildlife Service, Pacific Islands Office, 300 Ala Moana Blvd., P.O. Box 50088, Honolulu, HI 96850-0001.

(2) You may send comments by electronic mail (e-mail) to: NWHI_crithab@r1.fws.gov. If you submit comments by e-mail, please submit them as an ASCII file and avoid the use of special characters and any form of encryption. Please also include “Attn: RIN 1018-AH09” and your name and return address in your e-mail message. If you do not receive a confirmation from the system that we have received your e-mail message, contact us directly by calling our Honolulu Fish and Wildlife Office at telephone number 808/541-3441.

(3) You may hand-deliver comments to our Honolulu Fish and Wildlife Office at the address given above.

Comments and materials received, as well as supporting documentation used in preparation of the proposal to designate critical habitat, will be available for inspection, by appointment, during normal business hours at the address under (1) above. Copies of the draft economic analysis are available on the Internet at http://pacificislands.fws.gov or by request from the Field Supervisor at the address and phone number under (1 and 2) above.

Author(s)

The primary author of this notice is John Nuss, U.S. Fish and Wildlife Service, Regional Office, 911 NE 11th Avenue, 4th Floor, Portland, OR 97232-4181.

Authority

The authority for this action is the Endangered Species Act of 1973 (16 U.S.C. 1531 et seq.).

Dated: September 5, 2002.
Craig Manson,
Assistant Secretary for Fish and Wildlife and Parks.

[FR Doc. 02-23250 Filed 9-11-02; 8:45 am]

BILLING CODE 4310-55-P